DEPARTMENT OF COMMERCE

International Trade Administration

[A-570-901]

Certain Lined Paper Products from the People's Republic of China: Extension of Time Limits for Final Results of Antidumping Duty Administrative Review

AGENCY: Import Administration, International Trade Administration, Department of Commerce.

EFFECTIVE DATE: December 31, 2008.

FOR FURTHER INFORMATION CONTACT: Cindy Robinson, AD/CVD Operations, Office 3, Import Administration, International Trade Administration, U.S. Department of Commerce, 14th Street and Constitution Avenue, NW, Washington, DC 20230, telephone: (202) 482-3797.

SUPPLEMENTARY INFORMATION:

Background

On October 31, 2007, the U.S. Department of Commerce (“Department”) published a notice of initiation of the administrative review of the antidumping duty order on certain lined paper products from the People's Republic of China, covering the period April 17, 2006 to August 31, 2007. See Initiation of Antidumping and Countervailing Duty Administrative Reviews, 72 FR 61621 (October 31, 2007). On October 7, 2008, the Department published the preliminary results of this review. See Certain Lined Paper Products from the People's Republic of China: Notice of Preliminary Results of the Antidumping Duty Administrative Review, 73 FR 58540 (October 7, 2008). The final results of this review are currently due no later than February 4, 2009.

Extension of Time Limit of Final Results

Section 751(a)(3)(A) of the Tariff Act of 1930, as amended (“Act”), requires the Department to issue the final results of a review within 120 days after the date on which the preliminary results are published. However, if it is not practicable to complete the review within that time period, section 751(a)(3)(A) of the Act allows the Department to extend the time limit for the final results to a maximum of 180 days. See also 19 CFR 351.213(h)(2).

We determine that it is not practicable to complete the final results of this review within the original time limit because several technical issues have arisen. The mandatory respondent and its suppliers have complex cost allocation issues, which require the Department to further clarify and analyze a significant amount of information associated with the factors of production and manufacturing costs. Thus, additional time is necessary to complete the final results. Therefore, the Department is fully extending the final results by 60 days. The final results are now due not later than April 5, 2009. As this date falls on a Sunday, the final results are due April 6, 2009. See Notice of Clarification: Application of “Next Business Day” Rule for Administrative Determination Deadlines Pursuant of the Tariff Act of 1930, As Amended, 70 FR 24533 (May 10, 2005).

This extension is in accordance with section 751(a)(3)(A) of the Act and 19 CFR 351.213(h)(2).

Dated: December 18, 2008.
Stephan J. Claeys,
Deputy Assistant Secretary for Antidumping and Countervailing Duty Operations.

[FR Doc. E8-31139 Filed 12-30-08; 8:45 am]

BILLING CODE 3510-DS-S